FEDERAL COMMUNICATIONS COMMISSION

[Report No. 2573]

Petitions for Reconsideration of Action in Rulemaking Proceeding

August 29, 2002.

Petitions for Reconsideration have been filed in the Commission's rulemaking proceeding listed in this Public Notice and published pursuant to 47 CFR 1.429(e). The full text of this document is available for viewing and copying in Room CY-A257, 445 12th Street, SW., Washington, DC or may be purchased from the Commission's copy contractor, Qualex International (202) 863-2893. Oppositions to these petitions must be filed by September 23, 2002. See § 1.4(b) (1) of the Commission's rules (47 CFR 1.4(b) (1)). Replies to an opposition must be filed within 10 days after the time for filing oppositions has expired.

Subject: Amendment of the Commission's Rules Concerning Maritime Communications (PR Docket No. 92-257, RM-9664).

Number of petitions filed: 4.

Marlene H. Dortch,
Secretary.

[FR Doc. 02-22648 Filed 9-5-02; 8:45 am]

BILLING CODE 6712-01-M